DEPARTMENT OF THE TREASURY

Bureau of the Fiscal Service

Proposed Collection of Information: Government Securities Act of 1986

ACTION: Notice and request for comments.

SUMMARY: The Department of the Treasury, as part of its continuing effort to reduce paperwork and respondent burden, invites the general public and other Federal agencies to take this opportunity to comment on proposed and/or continuing information collection, as required by the Paperwork Reduction Act of 1995. Currently, the Bureau of the Fiscal Service within the Department of the Treasury is soliciting comments concerning the collection of information associated with the Government Securities Act (GSA) of 1986, as amended.

DATES: Written comments should be received on or before July 15, 2024 to be assured of consideration.

ADDRESSES: Direct all written comments and requests for additional information to Lori Santamorena (Executive Director), John Garrison (Associate Director), or Luisa Jou-Penchev (Government Securities Advisor), Government Securities Regulations Staff, Bureau of the Fiscal Service, Department of the Treasury, (202) 504-3632, govsecreg@fiscal.treasury.gov.

SUPPLEMENTARY INFORMATION:

Title: Government Securities Act of 1986, as amended, (15 U.S.C. 78o-5).

OMB Number: 1530-0064.

Abstract: The information collection is contained within the regulations issued pursuant to the GSA, which require government securities brokers and dealers to make and keep certain records concerning their business activities and their holdings of government securities, to submit financial reports, and to make certain disclosures to investors. The regulations also require depository institutions to keep certain records of non-fiduciary custodial holdings of government securities. The regulations and associated information collection are fundamental to customer protection and dealer financial responsibility.

Current Actions: Extension of a currently approved collection.

Type of Review: Regular.

Affected Public: Private Sector (Government securities brokers and dealers and financial institutions).

Estimated Number of Respondents: 2,879.

Estimated Total Annual Burden Hours: 206,293.

Request for Comments: Comments submitted in response to this notice will be summarized and/or included in the request for OMB approval. All comments will become a matter of public record. Comments are invited on: 1. whether the collection of information is necessary for the proper performance of the functions of the agency, including whether the information shall have practical utility; 2. the accuracy of the agency's estimate of the burden of the collection of information; 3. ways to enhance the quality, utility, and clarity of the information to be collected; 4. ways to minimize the burden of the collection of information on respondents, including through the use of automated collection techniques or other forms of information technology; and 5. estimates of capital or start-up costs and costs of operation, maintenance, and purchase of services to provide information.

Dated: May 10, 2024.
Bruce A. Sharp,
Bureau PRA Clearance Officer.

[FR Doc. 2024-10665 Filed 5-15-24; 8:45 am]

BILLING CODE 4810-AS-P